ENVIRONMENTAL PROTECTION AGENCY

40 CFR Part 52

[EPA-R09-OAR-2019-0439; FRL-10005-31-Region 9]

Air Plan Approval; California; Mojave Desert Air Quality Management District; California; Ventura County; 8-Hour Ozone Nonattainment Area Requirements; Clean Air Plans; 2008 8-Hour Ozone Nonattainment Area Requirements; Determination of Attainment by the Attainment Date; Imperial County, CA

AGENCY: Environmental Protection Agency (EPA).

ACTION: Final rule.

SUMMARY: The Environmental Protection Agency (EPA) is taking final action to approve revisions to the Mojave Desert Air Quality Management District (MDAQMD) portion of the California State Implementation Plan (SIP). These revisions concern emissions of volatile organic compounds (VOC) from Metal Parts and Products Coating Operations, and Polyester Resin Operations. We are approving two local rules that regulate these emission sources under the Clean Air Act (CAA or the Act) as well as approving negative declarations for three subcategories of control techniques guidelines (CTG) sources in the MDAQMD. In addition, we are converting the partial conditional approval of the District's reasonably available control technology (RACT) SIPs for the 1997 and 2008 ozone standards, as it applies to these two rules, to a full approval.

DATES: These rules and negative declarations will be effective on March 30, 2020.

ADDRESSES: The EPA has established a docket for this action under Docket ID No. EPA-R09-OAR-2019-0439. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: Arnold Lazarus, EPA Region IX, 75 Hawthorne St., San Francisco, CA 94105. By phone: (415) 972-3024 or by email at Lazarus.Arnold@epa.gov.

SUPPLEMENTARY INFORMATION: Throughout this document, “we,” “us” and “our” refer to the EPA.

Table of Contents

I. Proposed Action

II. Public Comments and EPA Responses

III. EPA Action

IV. Incorporation by Reference

V. Statutory and Executive Order Reviews

I. Proposed Action

On December 4, 2019 (84 FR 66345), the EPA proposed to approve the following rules and negative declarations into the California SIP.

Local agency | Document title | Amended/adopted | Submitted
MDAQMD | Rule 1115 Metal Parts and Products Coating Operations | 01/22/2018 | 05/23/2018
MDAQMD | Rule 1162 Polyester Resin Operations | 04/23/2018 | 07/16/2018
MDAQMD | Federal Negative Declarations for Two Control Techniques Guidelines Source Categories | 04/23/2018 | 07/16/2018
MDAQMD | Federal Negative Declaration for One Control Techniques Guidelines Source Category (Motor Vehicle Materials) | 10/22/2018 | 12/07/2018

We proposed to approve these rules and negative declarations because we determined that they comply with the relevant CAA requirements. Our proposed action contains more information on the rules, negative declarations and our evaluation.

II. Public Comments and EPA Responses

The EPA's proposed action provided a 30-day public comment period. During this period, we received no comments.¹

¹ The EPA received one submission on this docket through www.regulations.gov but that submission was blank.

III. EPA Action

No comments were submitted. Therefore, as authorized in section 110(k)(3) of the Act, the EPA is fully approving these rules and negative declarations into the California SIP. The EPA is also removing from 40 CFR 52.248(d)(1) the conditional approval of the District's RACT SIPs for the 1997 and 2008 ozone standards, with respect to these two rules.

IV. Incorporation by Reference

In this rule, the EPA is finalizing regulatory text that includes incorporation by reference. In accordance with requirements of 1 CFR 51.5, the EPA is finalizing the incorporation by reference of the MDAQMD rules described in the amendments to 40 CFR part 52 set forth below. The EPA has made, and will continue to make, these documents available through www.regulations.gov and at the EPA Region IX Office (please contact the person identified in the FOR FURTHER INFORMATION CONTACT section of this preamble for more information).

V. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by April 27, 2020. Filing a petition for reconsideration by the Administrator of this final rule does not affect the finality of this action for the purposes of judicial review nor does it extend the time within which a petition for judicial review may be filed and shall not postpone the effectiveness of such rule or action. This action may not be challenged later in proceedings to enforce its requirements. (See section 307(b)(2).)

List of Subjects in 40 CFR Part 52

Environmental protection, Air pollution control, Incorporation by reference, Intergovernmental relations, Ozone, Particulate matter, Reporting and recordkeeping requirements, VOC.

Dated: January 29, 2020.
Deborah Jordan,
Acting Regional Administrator, Region IX.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart F—California

2. Section 52.220 is amended by adding paragraphs (c)(239)(i)(A)(3), (c)(354)(i)(B)(2), and (c)(518)(i)(A)(2), revising paragraph (c)(519) introductory text, and adding paragraphs (c)(519)(i)(A)(2), (c)(519)(ii), and (c)(531) to read as follows:

§ 52.220 Identification of plan-in part.

* * * * *

(c) * * *

(239) * * *

(i) * * *

(A) * * *

(3) Previously approved on December 23, 1997 in paragraph (c)(239)(i)(A)(2) of this section and now deleted with replacement in paragraph (c)(518)(i)(A)(2) of this section, Rule 1115, adopted on March 2, 1992 and amended on April 22, 1996.

* * * * *

(354) * * *

(i) * * *

(B) * * *

(2) Previously approved on November 24, 2008 in paragraph (c)(354)(i)(B)(1) of this section and now deleted with replacement paragraph (c)(519)(i)(A)(2) of this section, Rule 1162, “Polyester Resin Operations,” adopted on August 27, 2007.

* * * * *

(518) * * *

(i) * * *

(A) * * *

(2) Rule 1115, “Metal Parts and Products Coating Operations,” amended on January 22, 2018.

* * * * *

(519) New and amended regulations and additional materials for the following APCDs were submitted on July 16, 2018 by the Governor's designee.

(i) * * *

(A) * * *

(2) Rule 1162, “Polyester Resin Operations,” amended on April 23, 2018.

* * * * *

(ii) Additional materials. (A) Mojave Desert Air Quality Management District.

(1) Federal Negative Declaration (8 hr Ozone Standard) for Two Control Technologies Guidelines Source Categories, approved on April 23, 2018.

(2) [Reserved]

(B) [Reserved]

* * * * *

(531) The following additional material was submitted on December 7, 2018 by the Governor's designee.

(i) [Reserved]

(ii) Additional materials. (A) Mojave Desert Air Quality Management District.

(1) Federal Negative Declaration (8 hr Ozone Standard) for One Control Technologies Guidelines Source Category, approved on October 22, 2018.

(2) [Reserved]

* * * * *

3. Section 52.222 is amended by adding paragraphs (a)(1)(viii) and (ix) to read as follows:

§ 52.222 Negative declarations.

(a) * * *

(1) * * *

(viii) The following negative declarations for the 2008 ozone standard were adopted by the District on April 23, 2018 and submitted to EPA on July 16, 2018: Miscellaneous Metal and Plastic Parts Coatings (EPA-453/R-08-003), Table 3—Plastic Parts and Products, and Table 4—Automotive/Transportation and Business Machine Plastic Parts.

(ix) The following negative declaration for the 2008 ozone standard was adopted by the District on October 22, 2018, and submitted to EPA on December 7, 2018: Miscellaneous Metal and Plastic Parts Coatings (EPA-453/R-08-003), Table 6—Motor Vehicle Materials.

* * * * *

§ 52.248 [Amended]

4. Section 52.248 is amended by removing and reserving paragraphs (d)(1)(vi) and (x).

[FR Doc. 2020-03251 Filed 2-26-20; 8:45 am]

BILLING CODE 6560-50-P